FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201400.

Agreement Name: HMM/ONE PSX Space Charter Agreement.

Parties: Hyundai Merchant Marine Co., Ltd.; Ocean Network Express, Pte. Ltd

Filing Party: Joshua Stein, Cozen O'Connor.

Synopsis: The Agreement authorizes HMM to charter space to ONE on HMM's service in the trade between ports in the Republic of Korea and China on the one hand and ports on the U.S. Pacific Coast on the other hand.

Proposed Effective Date: 3/3/2023.

Location: https://www2.fmc.gov/FMC.Agreements.Web/Public/AgreementHistory/77502.

Agreement No.: 201401.

Agreement Name: WHL/HLAG Vessel Sharing Agreement.

Parties: Hapag Lloyd AG; Wan Hai Lines Ltd and Wan Hai Lines (Singapore) Pte Ltd.

Filing Party: Wayne Rohde, Cozen O'Connor.

Synopsis: The Agreement authorizes the parties to share vessels in the trades between ports on the Atlantic Coast of the United States on the one hand and ports in China, Taiwan, Vietnam, Singapore, and Sri Lanka on the other hand.

Proposed Effective Date: 3/3/2023.

Location: https://www2.fmc.gov/FMC.Agreements.Web/Public/AgreementHistory/77503.

Dated: March 9, 2023.
JoAnne O'Bryant,
Program Analyst.

[FR Doc. 2023-05186 Filed 3-13-23; 8:45 am]

BILLING CODE 6730-02-P